DEPARTMENT OF THE INTERIOR

Fish and Wildlife Service

Information Collection Renewal Submitted to the Office of Management and Budget (OMB) for Approval Under the Paperwork Reduction Act; OMB Control Number 1018-0102; Special Use Permit Applications on National Wildlife Refuges Outside Alaska Covering 50 CFR 25.41, 25.61, 26.36, 27.71, 27.91, 27.97, 29.1, 29.2, 30.11, 31.2, 31.13, 31.14, 31.16, and 43 CFR 5

AGENCY: Fish and Wildlife Service, Interior.

ACTION: Notice; request for comments.

SUMMARY: In accordance with the Paperwork Reduction Act of 1995, the Fish and Wildlife Service (We) is requesting that OMB extend an existing approval to collect information for Special Use Permit Applications on Refuges Outside Alaska. We will use the information that we collect to determine if requested activities are compatible and appropriate with the purpose for which the refuge was established.

DATES: You must submit comments on or before December 27, 2004.

ADDRESSES: Send your comments on this information collection renewal to the Desk Officer for the Department of the Interior at OMB-OIRA at (202) 395-6566 (fax) or at OIRA_DOCKET@OMB.eop.gov (e-mail). Please provide a copy of your comments to Hope Grey, Information Collection Clearance Officer, Fish and Wildlife Service, 4401 N. Fairfax Drive, MS 222-ARLSQ, Arlington, Virginia 22203 (mail); (703) 358-2269 (fax); or hope_grey@fws.gov (e-mail).

FOR FURTHER INFORMATION CONTACT: To request a copy of the information collection requirement, explanatory information, or related forms, contact Hope Grey at the address or fax number listed above or by telephone at (703) 358-2482.

SUPPLEMENTARY INFORMATION: We have sent a request to OMB to renew approval of the information collection requirements for Special Use Permit Applications on National Wildlife Refuges Outside of Alaska. Currently we have approval from OMB to collect information under OMB control number 1018-0102. This approval expires on November 30, 2004. We may not conduct or sponsor, and a person is not required to respond to, a collection of information unless we display a currently valid OMB control number. OMB regulations at 5 CFR 1320, which implement provisions of the Paperwork Reduction Act of 1995 (44 U.S.C. 3501 et seq.), require that interested members of the public and affected agencies have an opportunity to comment on information collection and recordkeeping activities (see CFR 1380.8(d)). OMB has up to 60 days to approve or disapprove our information collection request, but their response may be given as early as 30 days after our submittal. Therefore, to ensure consideration, send your comments to OMB by the date listed in the DATES section near the beginning of this notice.

On July 16, 2004, we published in the Federal Register (69 FR 42762) a 60-day notice of our intent to request renewal of this information collection authority from OMB. In that notice, we solicited public comments for 60 days ending September 14, 2004. We received three comments regarding this notice.

Comment: A commenter felt that (1) the proposal was too vague and we should describe what kind of permits we issue; (2) at an estimate of 25 permits issued per refuge, we were issuing too many permits; and (3) farming activities were incompatible with refuge operations.

Response: (1) The universe of types of permits potentially issued on our 529 national wildlife refuges outside of Alaska prevents us from listing each and every type of permit. We describe a sampling of the types of permits a refuge manager, upon finding an activity compatible, might issue. (2) As to the average estimate of permits issued per refuge, each refuge manager must decide on the merits of a request using various methods of determination, such as compatibility, funding and other resource availability to ensure adequate protection of refuge resources and the visiting public, etc., before issuing a Special Use Permit. (3) Again, the refuge manager may determine that, in some cases, farming activities are a management tool that may answer the criteria outlined in answer (2) and are compatible with the purpose for which their particular refuge was established.

Comment: We received two comments from ham radio operators that disagreed with the decision by the refuge manager to deny issuance of a permit for the purpose of receiving and broadcasting transmissions. The requestors felt this request was not incompatible with the purposes for which the refuge was established.

Response: The purpose of this notice was to solicit comments on information collection requirements for Special Use Permit applications in the National Wildlife Refuge System. These comments relate not to the purpose of the notice itself, but rather to the compatibility decisionmaking process whereby a refuge manager decides whether or not to allow a public use on a national wildlife refuge. Because these comments are not substantive to the purpose of this notice and this is not the appropriate venue for the commenters to resolve their concerns, we will not address those concerns in this forum.

Comment: We received a comment that suggested that the Special Use Permit application be made available online for potential permittees to download themselves and fill out to cut down on “hard paper” and facilitate electronic issuance of the permits.

Response: We have considered electronic access to and processing of Special Use Permits. However, for the purposes of proper management oversight, control, and enforcement of permit condition violations (e.g., original signature on permit application), and ensuring local conditions are considered as part of each request, we elect at this time to continue with the existing local paper system. However, during this renewal period, we will be studying the feasibility of separating the application from the permit and making the application available online for electronic submission.

The National Wildlife Refuge System Improvement Act of 1997 that amends the National Wildlife Refuge Administration Act of 1966 (16 U.S.C. 668dd-668ee) requires that we authorize economic privileges on any national wildlife refuge by permit only when the activity will be compatible with and contribute to refuge purposes (50 CFR 29.21). We will provide the permit applications as requested by interested citizens. We will use information provided on the required written forms and verbal explanatory information to ensure that the applicant is eligible for the permit. We make provision in our general refuge regulations for public entry for specialized purposes, including economic activities such as the operation of guiding and other visitor services on refuges by concessionaires or cooperators under the appropriate legal instrument or special use permits (50 CFR 25.41, 25.61, 26.36, 27.71, 27.91, 27.97, 29.1, 29.2, 30.11, 31.2, 31.13, 31.14, 31.16, and 43 CFR 5). These regulations provide the authorities and procedures for allowing permits on refuges outside of Alaska.

We will use this permit to authorize such items as farming operations (haying and grazing, 50 CFR 29.2), beneficial management tools that we use to provide the best habitat possible on some refuges (50 CFR 30.11, 31.14, 31.16), recreational visitor service operations (50 CFR 25.41 and 25.61), commercial filming (50 CFR 27.71), other commercial activities (50 CFR 29.1), research, and other noncommercial activities (50 CFR 26.36). We will issue permits for a specific period as determined by the type and location of the use or visitor service provided.

Title: Special Use Permit Applications on National Wildlife Refuges Outside Alaska.

OMB Control Number: 1018-0102.

Form Number: 3-1383.

Frequency of Collection: On occasion.

Description of Respondents: Individuals and households; business and other for-profit organizations; nonprofit institutions; farms; and State, local or tribal governments.

Total Annual Responses: 14,150. We have 529 national wildlife refuges and 37 wetland management districts outside the State of Alaska. We anticipate that each unit will authorize approximately 25 permits each year.

Total Annual Burden: 14,150 hours.

Your comments are invited on: (1) Whether or not this collection of information is necessary for us to properly perform our functions, including whether or not this information will have practical utility; (2) the accuracy of our estimates of burden, including the validity of the methodology and assumptions we use; (3) ways to enhance the quality, utility, and clarity of the information we are proposing to collect; and (4) ways to minimize the burden of the collection of information on those who are to respond, including through the use of appropriate automated, electronic, mechanical, or other technological collection techniques or other forms of information technology.

Our practice is to make comments, including names and home addresses of respondents, available for public review during regular business hours. Individual respondents may request that we withhold their home addresses from the record, which we will honor to the extent allowable by law. If you wish us to withhold your name and/or address, you must state this clearly at the beginning of your comment. We will not consider anonymous comments. We generally make all submissions from organizations or businesses, and from individuals identifying themselves as representatives or officials of organizations or businesses, available for public inspection in their entirety.

Dated: November 5, 2004.
Hope Grey,
Information Collection Clearance Officer, Fish and Wildlife Service.

[FR Doc. 04-25899 Filed 11-23-04; 8:45 am]

BILLING CODE 4310-55-P